DEPARTMENT OF LABOR

Office of the Secretary

Submission for OMB Review; Comment Request

July 21, 2000.

The Department of Labor (DOL) has submitted the following public information collection requests (ICRs) to the Office of Management and Budget (OMB) for review and approval in accordance with the Paperwork Reduction Act of 1995 (Pub. L. 104—13), 44 U.S.C. chapter 35). A copy of each individual ICR, with applicable supporting documentation, may be obtained by calling the Department of Labor. To obtain documentation for BLS, ETA, PWBA, and OASAM contact Karin Kurz ({202} 219-5096 ext. 159 or by E-mail to Kurz-Karin@dol.gov). To obtain documentation for ESA, MSHA, OSHA, and VETS contact Darrin King ({202} 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ({202} 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Office of the Chief Financial Officer.

Title: Disclosure of Information to Credit Reporting Agencies; Administrative Offset, Interest, Penalties, and Administrative Costs.

OMB Number: 1225-0030.

Affected Public: Individuals or Households, Business or other for-profit; Not-for-profit institutions; Farms; Federal Government.

Frequency: On Occasion.

Cite/reference | Total respondents | * Total responses | Average time per response (hours) | Total burden hours
29 CFR 20.7 | 2000 | 2000 (×2) | 1.75 | 7000
29 CFR 20.25 | 500 | 500 (×2) | 1.75 | 1750
29 CFR 20.61 | 1000 | 1000 (×2) | 1.75 | 3500
Totals | 3500 | 3500 (×2) |  | 12,250
*The notation “(×2) refers to the two correspondences from each debtor.

Total annualized capital/startup costs: $0.

Total annual costs (operating/maintaining systems or purchasing services): $0.

Description: Information is collected from debtors to assist in determining whether an individual or organization is actually indebted to the Department of Labor, and if so indebted, to evaluate the individual's or organization's ability to repay the debt.

Type of Review: Revision of a currently approved collection.

Agency: Bureau of Labor Statistics.

Title: International Price Program—U.S. Export Price Indexes.

OMB Number: 1220-0025.

Affected Public: Business or other for-profit.

Form | Total respondents | Frequency | Total responses | Average time per response (Hours) | Total burden hours
Initiation | 1,700 | Annually | 1,700 | 1 | 1,700
BLS-3007D | 3,235 | Monthly/Quarterly | 38,540 | .5625 | 21,679
Totals | 4,935 |  | 40,240 | .58 | 23,379

Total annualized capital/startup costs: $0.

Total annual costs (operating/maintaining systems or purchasing services): $0.

Description: The International Price Program Indexes, a primary economic indicator, are used as measures of movement in international prices, indicators of inflationary trends in the economy, and sources of information used to determine U.S. monetary, fiscal, trade, and commercial policies.

Type of Review: Revision of a currently approved collection.

Agency: Bureau of Labor Statistics.

Title: International Price Program—U.S. Import Price Indexes.

OMB Number: 1220-0026.

Affected Public: Business or other for-profit.

Form | Total respondents | Frequency | Total responses | Average time per response (Hours) | Total burden hours
Initiation | 1,700 | Annually | 1,700 | 1 | 1,700
BLS-3007D | 3,235 | Monthly/Quarterly | 38,540 | .586 | 22,546
Totals | 4,935 |  | 40,240 | .6 | 24,246

Total annualized capital/startup costs: $0.

Total annual costs (operating/maintaining systems or purchasing services): $0.

Description: The International Price Program Indexes, a primary economic indicator, are used as measures of movement in international prices, indicators of inflationary trends in the economy, and sources of information used to determine U.S. monetary, fiscal, trade, and commercial policies. They also are used to deflate the Gross Domestic Products.

Ira L. Mills,
Departmental Clearance Officer.

[FR Doc. 00-19254 Filed 7-28-00; 8:45 am]

BILLING CODE 4510-23-M